DEPARTMENT OF ENERGY

Federal Energy Regulatory Commission

Combined Notice of Filings #2

Take notice that the Commission received the following electric rate filings:

Docket Numbers: ER10-3079-011; ER11-2539-004; ER11-2540-004; ER11-2542-004.

Applicants: Tyr Energy, LLC, Plains End, LLC, Plains End II, LLC, Rathdrum Power, LLC.

Description: Updated Market Power Analysis for the Northwest region of Tyr Energy, LLC, et al.

Filed Date: 12/14/16.

Accession Number: 20161214-5196.

Comments Due: 5 p.m. ET 2/13/17.

Docket Numbers: ER17-544-000.

Applicants: Beacon Solar 1, LLC.

Description: Baseline eTariff Filing: Beacon Solar 1, LLC MBR Tariff to be effective 12/15/2016.

Filed Date: 12/14/16.

Accession Number: 20161214-5115.

Comments Due: 5 p.m. ET 1/4/17.

Docket Numbers: ER17-545-000.

Applicants: Provider Power CT, LLC.

Description: Notice of cancellation of market base tariff of Provider Power CT, LLC.

Filed Date: 12/14/16.

Accession Number: 20161214-5159.

Comments Due: 5 p.m. ET 1/4/17.

Docket Numbers: ER17-546-000.

Applicants: Southern California Edison Company.

Description: § 205(d) Rate Filing: Two GIA's and DSA's ACES Projects WDT1425 and WDT1426 to be effective 12/15/2016.

Filed Date: 12/14/16.

Accession Number: 20161214-5173.

Comments Due: 5 p.m. ET 1/4/17.

Docket Numbers: ER17-547-000.

Applicants: San Diego Gas & Electric Company.

Description: § 205(d) Rate Filing: 2017 SDGE RS Update to Transmission Owner Tariff to be effective 1/1/2017.

Filed Date: 12/14/16.

Accession Number: 20161214-5197.

Comments Due: 5 p.m. ET 1/4/17.

Docket Numbers: ER17-548-000.

Applicants: Southern California Edison Company.

Description: Tariff Cancellation: Cancel Six Letter Agreements ACES Projects to be effective 8/22/2016.

Filed Date: 12/14/16.

Accession Number: 20161214-5223.

Comments Due: 5 p.m. ET 1/4/17.

Docket Numbers: ER17-549-000.

Applicants: New York Independent System Operator, Inc.

Description: § 205(d) Rate Filing: 205 filing tariff revision to Hybrid GT Pricing Logic to be effective 12/31/9998.

Filed Date: 12/14/16.

Accession Number: 20161214-5236.

Comments Due: 5 p.m. ET 1/4/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2016.
Nathaniel J. Davis, Sr.,
Deputy Secretary.

[FR Doc. 2016-30548 Filed 12-19-16; 8:45 am]

BILLING CODE 6717-01-P